DEPARTMENT OF LABOR

Employment and Training Administration

H-1B Technical Skills Training Grant Program

AGENCY: Employment and Training Administration, Labor.

ACTION: Notice of procedures for grant applications for H-1B Technical Skills Training Grants. All information required to submit a grant application is contained in this notice.

SUMMARY: The Employment and Training Administration (ETA), U.S. Department of Labor (DOL), a partner in the America's Workforce Network℠ (AWN), announces the availability of grant funds for skill training programs for unemployed and employed workers. These grants are financed by a user fee paid by employers to bring foreign workers into the U.S. under a new H-1B nonimmigrant visa. As part of the H-1B nonimmigrant visa program, this skills training program was authorized under the American Competitiveness and Workforce Improvement Act of 1998 (ACWIA), as amended. The grants are a long term solution to domestic skill shortages in high skill and high technology occupations. Grant awards will be made only to the extent that funds are available.

Eligible applicants for these grants will be local Workforce Investment Boards (Local Boards) established under section 117 of the Workforce Investment Act (WIA) that will carry out such programs or projects through One-Stop delivery systems established under section 121 of WIA, or regional consortia of Local Boards.

This notice describes the application submission requirements, the process that eligible entities must use to apply for funds covered by this solicitation, and how grantees will be selected. Approximately $135 million is anticipated to be available for funding the projects covered in this solicitation process.

DATES: The grant policies and procedures described in these guidelines are effective immediately, and remain in effect until further notice. Funds are available for obligation by the Secretary of Labor (the Secretary) under 29 U.S.C. 2916. Applications for grant awards will be accepted immediately upon publication of this notice in the Federal Register. It is anticipated that review panels will begin to convene to evaluate applications in June 2001. Telefacsimile (FAX) applications will not be accepted.

ADDRESSES: Applications must be mailed to the U.S. Department of Labor, Employment and Training Administration, Division of Federal Assistance, Attention: Le Phan, SGA/DFA 01-105, 200 Constitution Avenue, NW., Room S-4203, Washington, DC 20210.

FOR FURTHER INFORMATION CONTACT: Questions should be faxed to Le Phan, Grants Management Specialist, Division of Federal Assistance, FAX (202) 693-2879. (This is not a toll free number.) All inquiries should include the identifying number of this notice—SGA/DFA 01-105, and a contact name, FAX and phone numbers. This announcement will also be published on the Internet on the Employment and Training Administration's Home Page at http://www.doleta/gov.

SUPPLEMENTARY INFORMATION: The Employment and Training Administration (ETA), U.S. Department of Labor (DOL), partner in AWN, announces the availability of grant funds for technical skills training for employed and unemployed American workers. These grants are financed by a user fee paid by employers to bring foreign workers into the U.S. on a temporary basis to work in high skill or speciality occupations. As part of the H-1B non-immigrant visa program, this skills training program was established under the American Competitiveness and Workforce Improvement Act of 1998 (ACWIA 1998) as amended by the American Competitiveness in the Twentieth Century Act of 2000 (ACWIA 2000) and companion legislation. The grants are a long term solution to domestic skill shortages in high skill and high technology occupations—raising the skill levels of American workers so they can take advantage of the new technology-related, high skills employment opportunities and, thus, helping business reduce its dependence on skilled foreign professionals permitted to work in the U.S. on a temporary basis under the H-1B visa program. Grant awards will be made only to the extent that funds are available.

The Act creates a two-part eligibility and funding system for the new program. Seventy-five (75%) percent of the available grant funds will be awarded to Local Boards established under section 117 of the Workforce Investment Act (WIA) that will carry out such programs or projects through the One-Stop delivery systems established under section 121 of WIA, or regional consortia of Local Boards. Regional consortia of boards may be interstate. Each Local Board or consortium of boards receiving grant funds must represent a local or regional public-private partnership that is comprised of at least (i) one Local Board; (ii) one business or business-related non-profit organization such as a trade association; and (iii) one community-based organization or higher education institution or labor union. This Notice governs the procurement process for awarding the 75 percent funds.

The remaining 25 percent of the available funds will be awarded to business partnerships that consist of at least two businesses or a business-related nonprofit organization that represents more than one business. The partnership may also include any educational, labor, community organization, or Local Board. Applicants for the 25 percent funds must explain the barriers they faced in meeting the partnership eligibility criteria for the 75 percent funds—for example, the business partnerships may be on a national, multi-state, regional or rural area basis (such as rural telework programs). The Solicitation for Grant Applications (SGA) governing the competition for the first round of grants for the 25 percent funds will be published in the Federal Register in the near future.

Successful applicants under earlier H-1B solicitations are eligible to apply for grants under this competition. Current awardees are encouraged to indicate how their new proposals can provide a different approach or scope to skills training given program improvements developed under the current award. Consideration will be given to grantees which use grant funds to significantly expand their training program or project through such means as training more workers or offering more courses, or to applicants whose training programs or projects expand as a result of increasing collaborations—especially with more than one small business or with a labor-management training program or project.

Applicants which were unsuccessful in securing a grant award from prior competitions are strongly encouraged to amend their proposals according to this announcement and reapply.

America's Workforce Network is a national workforce investment and employment system designed to meet both the needs of the nation's businesses and the needs of job seekers and incumbent workers who want to advance their careers. ACWIA 2000 provides resources for skill training in high skill and high technology occupations that are in demand by U.S. business. One key measure of this demand is determined by the number of employer H-1B applications for foreign workers. For example, industries that appear to generate the most current H-1B demand are information technology (IT) and health care. Appendix B to this solicitation provides information on the kinds of occupations certified under the H-1B program by the Department of Labor for the first five months Fiscal Year 2000 (October 1, 1999 through February 29, 2000) and the number of job openings certified in each occupation.

This Notice describes the application submission requirements, the process that eligible entities must use to apply for funds covered by this solicitation, and how grantees will be selected. Approximately $135 million is anticipated to be available for funding the projects covered in this solicitation process.

ETA is soliciting proposals for demonstration projects to provide technical skills training for professionals, including both employed and unemployed workers.

This announcement consists of four parts:

• Part I provides background, basic DOL policies and emphasis, and the legislative mandate for technical skills training grants under Section 286(s) of INA, Section 111 of ACWIA 2000, and Section 214(i) of INA.

• Part II describes specific program, administrative and reporting requirements that will apply to all grant awards.

• Part III describes the application process.

• Part IV describes the review process and rating criteria that will be used to evaluate applications for funding.

Part I—Background and DOL Policies and Emphases

A. Background

This H-1B Technical Skills Training Grant program under ACWIA will build on similar ETA initiatives that address the issue of skills shortages. These initiatives (see the ETA website at www.doleta.gov/h-1b) include the June 1998 dislocated worker technology demonstration; the new dislocated worker technology demonstration; the regional skills consortium building awards announced in March 2000; the individual training account (ITA) demonstration grant awards announced in February 2000; and the skills strategies partnership training/system building demonstration awards in June 2000. These efforts were intended to strengthen linkages between employers experiencing skill shortages in specific occupations and the publicly-funded workforce development system.

In June 1998, $7.5 million of discretionary dislocated worker funds were awarded to 11 organizations throughout the country to train workers in skills related to the information technology industry. In June 1999, over $9.57 million of these funds were awarded to 10 grantees to train dislocated workers in the skills necessary to obtain work requiring advanced skills in occupations in manufacturing industry settings, including computers and electronics manufacturing, machinery and motor vehicles, chemicals and petroleum, specialized instruments and devices, and biomedics.

On March 2, 2000, 23 awards totaling $15.2 million were announced for the regional skills consortium competition. Finally, this solicitation takes into account the experience gained from the first, second and third rounds of the H-1B competition for which nine awards totaling $12.4 million were announced on February 10, 2000; 12 awards totaling $29.2 million were announced on July 19, 2000; and 22 awards totaling $54 million were announced on October 20, 2000. Information on these projects can be found on the H-1B web page referenced above.

B. DOL Policies and Emphases

1. Six Basic Key Principles Underlie This Effort

Partnership Sustainability: The grant awards will not exceed a duration of 24 months with an option for 12 additional months. The primary focus of these awards is technical skills training. ETA intends that regional partnerships sustain themselves over the long term and well after the federal resources from this initiative have been exhausted. The statutory 50 percent non-Federal matching requirement is an integral part of ensuring sustainability because the matching resources are expected to help extend the skills shortages training effort beyond the term of the grant. This partnership sustainability concept relates to two rating criteria: Links with Key Partners and Sustainability (the resources each partner offers and the role of external resources in building the foundation for a permanent partnership).

Business Involvement: Businesses are essential partners and promote the need for skills requirements. Under WIA, business plays a critical, leadership role in planning and overseeing training and employment activities. WIA requires that the majority of the membership of voluntary State and local Workforce Investment Boards are business representatives, and that the State and local board chairs be drawn from business. For the purpose of these grants, it is imperative that businesses represented in the group applying for this grant include those with current skills shortages who intend to hire, retain, or promote graduates of the technical skills training program.

Business involvement is an important component of four Rating Criteria: Statement of Need (assists in assessing skills shortages in demand in the region); Linkages with Key Partners; Sustainability (private sector involvement in the partnership; resources each of the partners offers; the role of donations in building the foundation for a permanent partnership), and Outcomes (businesses involved in the partnerships and their ability to serve as a key resource in hiring/upgrading workers who have been trained).

Current Skills Gap: Access to training to fill current local or regional skills shortages is the immediate focus of this initiative. Training investments should be targeted in occupational areas that have been identified on the basis of H-1B occupations as skills shortage areas. This key principle relates to two criteria: Statement of Need, and Service Delivery Strategy (the innovative manner in which skills training will meet the skill needs of the region.)

Innovative and Effective Tools: The grantees will use innovative or proven tools and approaches, that may include on-the-job training, to close particular skills gaps and provide strategies for training that promote regional development. This principle relates to two criteria: Service Delivery Strategy in which innovation is encouraged, and Cost Effectiveness. Innovative training programs may result in better employment outcomes and higher levels of skill achieved by those participants for the same cost.

Target Population: The ACWIA technical skills training is geared towards employed and unemployed workers who can be trained and placed directly in highly skilled H-1B occupations. Bonus points may be awarded for special efforts to include outreach to target women, minorities, persons with disabilities, older workers, and workers in rural areas. This emphasis relates to the rating criterion, Target Population (a discussion of the targeted populations.)

Career Ladders: Employees at the H-1B skills level are generally characterized as having a Bachelor's degree or comparable work experience. The H-1B technical skills training is not limited to skills levels commensurate with a 4-year degree. It should prepare workers for a broad range of positions along a career ladder. “Career ladder” may generally be defined as a system of career options which encourage opportunities for professional growth and upward mobility. The technical skills training can include a broad range of positions along a career ladder that eventually lead to a high skills level job. Thus, potential trainees are not required to enter training with a 4-year degree. Additionally, trainees are not expected to acquire a 4-year degree to be successful. Career ladders create opportunities for individuals who may vary in experience and education levels (such as vocational training and Associates' degrees) to advance along a career ladder and qualify for H-1B related occupations.

2. Skills Shortages

Section 414(c) of ACWIA, as amended by section 111 of ACWIA 2000, mandates that the grants awarded under this authority be used for technical skills training to employed and unemployed workers. The basis of the funding for the grants is a user fee paid with the H-1B visa application by an employer seeking highly-skilled personnel to fill high-skill shortages in American industries. Training must focus on occupations that are experiencing skills shortage in the domestic job market. The long-term goal of the program is to train American workers in the necessary/appropriate skills to fill the skills shortages in highly specialized industries.

3. Skills Standards

Skills standards represent a benchmark by which an individual's achieved competence can be measured. Work in this area has been performed by private industry and trade associations, registered apprenticeship training systems, and public and private partnerships (including the Job Corps and local School-to-Work partnerships). Well-defined skills standards can be useful tools in matching training goals to targeted occupational areas. Applicants are encouraged to survey the progress to date in developing occupational skills standards in their communities, such as establishing a clearly defined set of expectations for the requisite capabilities of workers.

As noted earlier, the definition of the minimum proficiency level required to be considered an H-1B occupation, contained in section 214 (i), 8 U.S.C. 1184 (i) of the Immigration and Naturalization Act (INA), speaks to a very high skills level for these “specialty occupations”. These are occupations that require “theoretical and practical application of a body of highly specialized knowledge,” and full state licensure to practice in the occupation (if it is required). These occupations also must require either completion of at least a bachelor's degree or experience in the specialty equivalent to the completion of such degree and recognition of expertise in the specialty through progressively responsible positions relating to the specialty.

4. Regional Planning

Applicants must describe the local area or region that will be served with particular emphasis on its skills shortages. Applicants are encouraged to ascertain current labor force and industry data to reflect the skills shortages in their region. The proposal also must identify the political jurisdictions to be included and provide an enumeration of the specific local areas that are served under WIA. Although comprehensive occupational vacancy data is unavailable, current H-1B applicant data should be utilized to the extent feasible to describe occupational shortages. Attachment B to this solicitation is a listing by occupations for which H-1B visas are being sought as shown by the most current H-1B applicant data. Requests for H-1B visas for the applicant's region may reflect a skills shortage of those occupations, as well.

Applicants are encouraged to utilize all available State and local data, including that provided by area businesses and business associations, in making determinations of regional shortages. Applicants are encouraged to analyze data made available by their State labor market information (LMI) director, the Bureau of Labor Statistics (BLS), and through the local One-Stop delivery system.

5. Service Delivery and Supportive Services

Applicants should carefully describe the skills training that will be provided under the grant in the context of the goals that are to be achieved by participants. Section 111(c)(4)(A) of ACWIA 2000 states that consideration will be given to applicants who commit to provide at least one of three target outcomes for participants who complete training. These outcomes are the hiring of unemployed trainees, increased wages or salaries of employed workers, and skill certificates documenting skills acquisition or a link to industry accepted occupational skill standards, certificates, or licensing requirements.

ACWIA 2000 requires that at least 80 percent of grants be awarded to projects which target occupations in high technology, information technology and biotechnology. For example, this includes skills needed for software and communications services, telecommunications, systems installation and integration, computers and communications hardware, advanced manufacturing, health care technology, biotechnology and biomedical research and manufacturing, and innovation services. Not more than 20 percent of the available funds may be awarded for training in any single specialty occupation, as defined by section 214(i) of the INA. A response to the Statement of Work criterion should provide a detailed discussion of the kinds of training to be provided and the mechanisms to be used to provide it. Applicants must include in their work statement a discussion of the types of skills training being provided, the targeted skills levels, how the skills will be measured, and how skills shortages in the local area or region will be met through this training.

The Employment and Training Administration anticipates that applicants may need to make a range of supportive services available to enhance the quality and effectiveness of the skill training provided under the grant. Grant funds may not be used to provide supportive services. Appropriately focused services, as defined by section 101(46) of WIA—such as transportation or child care—are considered as important enhancements to the technical skills training package.

Federal resources such as co-enrollment in WIA while participating in ACWIA 2000 training for supportive services clearly cannot be counted toward the matching requirement, but are clearly desirable features of these projects. Successful applicants are encouraged to leverage such Federal resources as part of making the technical skills training more effective.

In order to provide these resources, applicants should build linkages to the One-Stop Career Center network created under America's Workforce Network to reach out, inform, and recruit individuals to participate in the H-1B-financed skill training.

The central role of the Local Boards in the planning and policy activity surrounding these grants is critical. WIA requires the Local Board to prepare a strategic workforce investment plan for the area that it embraces. The Local Board also designates One-Stop service center operators and selects eligible training providers. In short, Local Boards already are engaged in much of the necessary work that could provide a solid foundation for the training activities to be undertaken in ACWIA 2000.

Part II—Requirements

A. Eligible Participants

Training funded by a grantee may be both for persons who are currently employed and who wish to obtain and upgrade skills and for persons who are unemployed. The aim of the skills training is to place employed and unemployed workers in highly skilled H-1B related occupations. Applicants are encouraged to include efforts to outreach to target populations such as women, minorities, persons with disabilities, older workers, workers in rural areas, and other under-represented groups.

B. Administrative Requirements

1. General

Grantee organizations will be subject to: ACWIA 2000; these guidelines; the terms and conditions of the grant and any subsequent modifications; applicable Federal laws (including provisions in appropriations law); and any applicable requirements listed below—

a. Workforce Investment Boards—20 Code of Federal Regulations (CFR) Part 667, published in the Federal Register on Friday, August 11, 2000 (Administrative Costs).

b. Non-Profit Organizations—Office of Management and Budget (OMB) Circulars A-122 (Cost Principles) and 29 CFR Part 95 (Administrative Requirements).

c. Educational Institutions—OMB Circulars A-21 (Cost Principles) and 29 CFR Part 95 (Administrative Requirements).

d. State and Local Governments—OMB Circulars A-87 (Cost Principles) and 29 CFR Part 97 (Administrative Requirements).

e. Profit Making Commercial Firms—Federal Acquisition Regulation (FAR)—48 CFR Part 31 (Cost Principles), and 29 CFR Part 95 (Administrative Requirements). In addition, the audit requirements at 20 CFR 627.480 apply to commercial recipients.

f. All entities must comply with 29 CFR Parts 93 and 98, and, where applicable, 29 CFR Parts 96 and 99.

2. Administrative Costs

ACWIA 2000 Section 111(c)(6) provides that an entity that receives a grant to carry out a program or project under section 414(c)(1)(A) of ACWIA may not use more than 10 percent of the amount of the grant to pay administrative costs associated with the program or project.

3. Start Up Costs

ACWIA 2000 Section 111(c)(3) limits the amount of start-up costs of partnerships or new training projects which may be charged to these grants. Except for partnerships of small businesses, the limit is five (5) percent of any single grant or costs not to exceed $75,000. For partnerships consisting primarily of small businesses, the limit is ten (10) percent of the cost allocable for a single grant or a maximum of $150,000.

C. Reporting Requirements

The grantee is required to provide the reports and documents listed below:

• Quarterly Financial Reports. The grantee must submit to the Grant Officer's Technical Representative (GOTR) within the 30 days following each quarter, two copies of a quarterly Financial Status Report (Standard Form 269) until such time as all funds have been expended or the period of availability has expired.

• Progress Reports. The grantee must submit a narrative with the quarterly reports to the GOTR within the 30 days following each quarter. Two copies are to be submitted providing a detailed account of activities undertaken during that quarter including:

a. A discussion of the occupational areas for which skills training is being provided;

b. Job placements in skills shortage occupations of both employed and unemployed workers;

c. Wage increases in skills shortage occupations of both employed and unemployed workers;

d. Number of promotions by participants who have completed the skills training program; and,

e. An indication of any current problems which may affect performance and proposed corrective action.

• Final Report. A draft final report which summarizes project activities and employment outcomes and related results of the demonstration must be submitted no later than the expiration date of the grant. Three copies of the final report must be submitted no later than 60 days after the grant expiration date.

D. Evaluation

As required by ACWIA 2000, applications must include an agreement that the program or project shall be subject to evaluation by the Secretary of Labor to measure its effectiveness. To learn from these skill training grants, ETA will arrange for or conduct an independent evaluation of the outcomes, impacts, and benefits of the demonstration projects. Evaluation findings will help ETA identify promising practices and approaches that will be disseminated throughout America's Workforce Network. Grantees must agree to make records on participants, employers and funding available and to provide access to program operating personnel and to participants, as specified by the evaluator(s) under the direction of ETA, including after the period of operation.

Part III—Application Process

A. Eligible Applicants

Section 111(c)(2)(A)(i) of ACWIA 2000 specifies that the Secretary shall, in consultation with the Secretary of Commerce, subject to the availability of funds in the H-1B Nonimmigrant Petitioner Account, award 75 percent of the grants to Local Boards established under section 116(b) or 117 of the WIA, 29 U.S.C. 2831(b) and 2832, or consortia of such Boards in a region. Consortia can cross state lines or involve more than one state-wide Local Board.

Each Local Board or consortium of boards receiving grant funds must represent a local or regional public-private partnership consisting of at least one Local Board; one business or business-related non-profit organization such as a trade association and one community-based organization (which may be a faith-based organization), or higher education institution, or labor union.

The activities of the local or regional public-private partnership must be conducted in coordination with the activities of the relevant Local Board or Boards established under WIA, 29 U.S.C. 2832. ACWIA 2000 requires that each partnership designate a fiscal agent responsible for being the recipient of grant funds.

Under this announcement, only Local Boards (through their designated fiscal agents) and consortia of Local Boards may apply for and receive these grant awards. This requirement does not prevent the participation of other partners or concerned entities which are integral to the process of planning for and conducting skills training in skills shortage areas.

Applicants are encouraged to collaborate, as other participating partners, with entities that possess a sound grasp of the job marketplace in the region and are in a position to address the issue of skills shortage occupations. These entities include organizations such as private, for-profit businesses—including small and medium-size businesses; business, trade, or industry associations such as local Chambers of Commerce and small business federations; and labor unions. These entities should include businesses and business associations which have experienced first hand the problems of coping with skill shortages and which employ workers engaged in skill shortage occupations.

This notice will not prescriptively define the roles of individual entities within the partnership beyond requiring that the Local Boards or consortia be the applicant and designate a fiscal agent for receiving grant funds, as stated in ACWIA 2000. The applicant's proposal is expected to provide a detailed discussion of participating organizations' respective responsibilities. As required by ACWIA, ETA will give consideration in awarding grants to any proposal which includes and directly benefits two or more small businesses (100 employees or less).

Based on ETA's experience, regional partnerships that actively engage a wide range of participation from community groups—particularly with strong private employer involvement—appear to be more successful. Applicants generally are encouraged to include a broad spectrum of stakeholder groups, including businesses, in their partnership effort. Consortia of Local Boards representing more than one area that share common economic goals may join together as one applicant rather than applying individually.

The application must clearly identify the applicant (or the fiscal agent), the grant recipient (and/or fiscal agent), and describe its capacity to administer this project. It must also indicate that the project is consistent with and will be coordinated with the activities of the relevant Local Board or Boards and with the other partners in the workforce investment system(s) that are involved in technical skills activities in the relevant region(s).

According to Section 18 of the Lobbying Disclosure Act of 1995, an organization described in Section 501(c)(4) of the Internal Revenue Code of 1986 that engages in lobbying activities will not be eligible for the receipt of federal funds constituting an award, grant, or loan.

Note: Except as specifically provided in this Notice, DOL/ETA's acceptance of a proposal and an award of federal funds to sponsor any program(s) does not provide a waiver of any grant requirements and/or procedures. For example, the OMB Circulars require and an entity's procurement procedures must require that all procurement transactions are conducted, as much as practical, to provide open and free competition. If a proposal identifies a specific entity to provide services, the DOL/ETA's award does not provide the justification or basis to sole-source the procurement, i.e., it does not authorize the applicant to avoid competition when procuring these services.

Part IV of this announcement enumerates and defines in depth a series of criteria that will be utilized to rate applicant submissions. These criteria are:

A. Statement of Need

B. Service Delivery Strategy

C. Target Population

D. Sustainability

E. Linkages with Key Partners

F. Outcomes

G. Cost Effectiveness

B. Submission of Proposals

Applicants must submit four (4) copies of their proposal, with original signatures. The proposal must consist of two (2) separate and distinct parts, Parts I and II.

Part I of the proposal must contain the Standard Form (SF) 424, “Application for Federal Assistance” (Appendix C) and the Budget Information Form (Appendix D). Upon confirmation of an award, the individual signing the SF 424 on behalf of the applicant shall represent the responsible financial and administrative entity.

In preparing the Budget Information form, the applicant must provide a concise narrative explanation to support the request. The statutory language of ACWIA 2000 is specific in stating that grant resources are to be expended for programs or projects to provide technical skills training. The administrative costs are limited to no more than 10 percent of the request and must clearly support the goals of the project. An illustrative, but not exclusive, list of allowable and allocable types of administrative costs are provided in the WIA regulations at 20 CFR 667.200. In general, however, this grant does not contemplate or permit the purchase of capital equipment. The budget narrative should discuss precisely how the administrative costs support the project goals.

Part II must contain a technical proposal that demonstrates the Applicant's capabilities in accordance with the Statement of Work. A grant application is limited to twenty-five (25) double-spaced, single-sided, 8.5 inch × 11 inch pages with 1-inch margins. The Applicant may provide resumes, a staffing pattern, statistical information and related material in attachments which may not exceed fifteen (15) pages. Although not required, letters of commitment from partners or from those providing matching resources may be submitted as attachments. Such letters will not count against the allowable maximum page total. The applicant must briefly itemize those participating entities in the text of the proposal. Text type shall be 11 point or larger. Applications that do not meet these requirements will not be considered. Each application must include a Time Line outlining project activities and an Executive Summary that is not to exceed two pages. The Time Line and the Executive Summary do not count against the 25 page limit. No cost data or reference to prices should be included in the technical proposal.

C. Hand Delivered Proposals

Hand delivered proposals will be received at the address identified above. Telegraphed and/or faxed proposals will not be accepted. Failure to adhere to the above instructions will be considered as non-responsive.

D. Period of Performance

The initial period of performance will be up to 24 months from the date of execution of the grant documents. It is anticipated that about $135 million will be disbursed based on this notice for the coming year. It is anticipated that individual awards will not exceed $3,000,000. ETA may elect to exercise its option to extend these grants for an additional period not to exceed 12 months, based on the availability of funding and success of the program.

E. Definitions

For purposes of this solicitation:

Technical skills training may be generally defined as the “training services” described in Section 134(d)(4)(D) of WIA. The H-1B Technical Skills Training Grant emphasizes training in high-demand, high-level skills to individuals where there is a shortage of qualified workers. Training may include a combination of academic and work-place learning, including on-the-job training, and instruction, as well as customized training curricula developed in partnership with an employer (or group of employers). Training may be tailored to meet the needs of individual participants and successful completion of a program must be accompanied by an employer's commitment to hire those trainees.

Region may be defined as an area which exhibits a commonality of economic interest. A region may comprise of more than one labor market area or one large labor market, one labor market area joined together with adjacent rural districts, special purpose districts, and contiguous and non-contiguous Local Boards. A region may be either intrastate or interstate, and may be coterminous with a single Local Board.

Career Ladders may generally be defined as a system of career options which encourage opportunities for professional growth and upward mobility. It may be defined for the purposes of this Notice as a training and career path that may not directly result in the replacement of an H-1B visa-holder with a qualified domestic worker, but a path that provides skills which may eventually lead to replacement of such workers for positions in high technology, information technology, and biotechnology and other H-1B occupations. This training may include the skills needed for software and communication services, telecommunications, systems installation and integration, computers and communications hardware, advanced manufacturing, health care technology, bio-technology and biomedical research and manufacturing and innovation services.

Older Workers are those who meet the age standard prescribed in the Older Americans Act—fifty-five years or older—who are seeking full-time employment.

F. Sustainability

Applicants must demonstrate the ability to provide resources equivalent to at least 50 percent of the grant award amount as a match. This statutory match may be provided in cash or in kind and federal resources may not be counted against the matching requirement. ETA encourages the provision of essential capital equipment, such as computers and furniture, as part of the match. The amount and nature of the match must be clearly described in the application.

The 50 percent matching requirement is designed to assist grantees in initiating sustainability for the proposed project. The Department is particularly interested that the applicants demonstrate clear evidence that matching resources will sustain training activities after the expiration of the grant. Although matches may be one-time occurrences, applicants are encouraged to seek partnerships that reflect a commitment, financially and non-financially, to the future success of the proposed program.

Part IV—Review Process and Rating Criteria

A. The Review Process

Applications for the H-1B technical skills training grants will be accepted continuously after the publication of this announcement. Technical review panels will meet periodically on an as-needed basis, given the number of applications and the availability of funds.

The technical review panel will make careful evaluation of applications against the criteria below. Final funding decisions will be based on the rating of applications as a result of the review process, and other factors such as statutory requirements (urban/rural balance, geographic balance, the requirement that at least 80 percent of funds be awarded for high technology, information technology, and biotechnology occupational training and that not more than 20 percent of funds be available for training in any single specialty occupation), availability of funds, and what is most advantageous to the Government. These decisions will be made in consultation with the Department of Commerce. The panel results are advisory in nature and not binding on the Grant Officer. The Government may elect to award the grant(s) with or without the discussions with the offeror(s). In situations without discussions, an award will be based on the offeror's signature on the SF 424, which constitutes a binding offer.

The rated applications will be placed in the following categories:

(1) If the application receives a rating of 80 and above, it will be placed on an eligible to be funded list. The applicant will remain on this list for 9 months before resubmittal is required. Applicants in this category may require further discussions. Inclusion on this list is not a guarantee of funding.

(2) If the application receives a rating of 79 and below, the applicant will be eligible to receive technical assistance through group workshops in areas such as:

• Grant Writing

• Partnership Building/Linkages

• Administrative Requirements

• Service Delivery Strategies

(3) Those applications receiving rating of 70-79 will also be eligible to receive additional on-site technical assistance.

All applicants will receive written notice of their rating which will include a summary of their strengths and weaknesses in the application at the conclusion of the review process.

B. Rating Criteria

1. Statement of Need (15 points)

ACWIA 2000 is a response to skills shortages around the country in specific occupations. The most recent H-1B application data are provided as an attachment to this solicitation. Applicants should clearly describe the local area or region for which services are to be provided and the skills shortages prevalent in the region.

Applicants are encouraged to utilize all available data resources to assure that its description of need is relevant to local labor market shortages. Information can include, but is not limited to, State labor market information, H-1B applications, newspaper want ads, expressed employer hiring demands, and information from One-Stop system, in responding to this criterion. Descriptive items about the local area or region, such as rural or urban, should be included. (What high technology needs and opportunities exist in the region? What are the particular characteristics of the local political, economic and administrative jurisdictions—Local Boards, labor market areas, or special district authorities—that led them to associate for the purpose of this application?)

A general description of the local area or region should include socioeconomic data, with a particular focus on the general education and skills level prevalent in the area. Applicants are encouraged to include information such as transportation patterns, and statistical and demographic information (e.g., age and income data). Other germane questions that will provide greater depth of description include: What is the general business environment? What industries and occupations are growing and declining? What types of skills are being sought in the local area or region by the major employers in general, and the partnership member companies, in particular?

2. Service Delivery Strategy (25 points)

Applicants must lay out a comprehensive strategy for providing the technical skills training that is mandated as the core activity of these grant awards. A brief discussion of the impact of skills training in response to the identified skills shortages of the region should be included. Specific issues that must be addressed as part of this section include:

• The range of potential training providers, the types of skills training that will be offered, how the training will meet the local area or regional skills needs, and how the training will be provided.

• What steps will be taken to reach out to the community(ies)? to provide information about the project and planned training activities.

• How will the types of training planned for project participants be determined.

We encourage applicants to be innovative in the training services they provide. Innovation in the context of service delivery can represent a wide variety of items. Innovation may be implemented in the manner in which training services are provided—e.g., distance learning to provide instruction, interactive video self-instructional materials, and flexible class scheduling (sections of the same class scheduled at different times of the day to accommodate workers whose schedules fluctuate). Creativity in developing the service strategy is also encouraged.

3. Target Population (10 points, 5 bonus points)

The eligibility criteria for skills training enumerated in ACWIA 2000 are extremely broad and include employed and unemployed workers. This section should clearly identify the targeted workers, including their characteristics and explain why they are targeted. A discussion of what assessment procedures are to be used is critical. The applicant should address some specific issues relating to the target employed worker population such as:

• How many employed workers will be targeted for services and why.

• What are the technical skills training needs of those workers to fulfill skills shortage occupations?

• It is extremely important that the selection process for workers, both employed and unemployed, be carefully described to make it clear how those individuals will be determined to possess the capacity after the completion of training to accept jobs that previously were filled via the H-1B visa process. In the case of unemployed workers, there needs to be an extensive discussion of the criteria to be used to assess and enroll individuals.

• In particular, the applicant should describe the outreach methods to target minorities, women, individuals with disabilities, older workers, and individuals in rural areas meet these standards. Applicants who effectively target such workers will be awarded up to 5 additional points.

4. Sustainability (10 points)

Applicants must demonstrate a statutory 50 percent match to the resources for proposed projects. Matches may either be in cash or in kind and federal resources may not be counted against the matching requirement. Applicants must describe to what extent the partners provide matching funds or services and how this contribution assists in building the foundation for a permanent partnership, i.e., sustainability. Matching resources and partnerships are considered an integral element of the project, as they support and strengthen the quality of the technical skills training provided and contribute materially toward sustainability.

ACWIA 2000 technical skills training grant resources are limited to raising the skills levels of individuals to fill high skills H-1B occupations. Applicants will be given preference for identifying other resources both Federal and non-Federal, because they can contribute materially toward quality outcomes and sustainability. (Note that although Federal resources may not be counted as match, they may be counted to demonstrate the project sustainability.) Applicants are also encouraged to establish relationships with State Workforce Investment Boards and relevant state agencies, as they may provide valuable assistance and resources that can contribute to the success of a proposed project. Applicants should enumerate these resources in this section to support their discussion of sustainability and also describe any specific existing contractual commitments. The sustainability issue can be addressed by providing concrete evidence that activities supported by the proposal will be continued after the expiration date of the grant by using other public or private resources.

5. Linkages with Key Partners (15 points)

The application must show the partnership requested by Section 111(c)(2)(A)(i)(I)-(III) of ACWIA 2000 (a Local Board or consortium of Local Boards; one community-based organization, higher education institution, or labor union; and one business or business-related nonprofit organization such as a trade association). ETA encourages and will give consideration to applications that go beyond the minimum requirements of the statute and show broader partnerships. The applicant should identify the partners and how they will interact together, i.e., what role each will play and what resources each partner will offer. In particular, this section should identify partnerships with the private and public sectors, including ties with small- and medium-sized businesses and small business federations. The Service Delivery Strategy section of the Statement of Work describes the role of each of the actors in delivering the proposed services, while this section is intended to look at the linkages from a more structural perspective with particular emphasis on the employers in the consortium that are experiencing skills shortages.

ETA also is interested in the extent of the involvement of small businesses in the partnership. Consideration will be given to any partnership that involves and directly benefits more than one small business (each consisting of 100 employees or less).

6. Outcomes (15 points)

Applicants must describe the predicted outcomes resulting from this training. It is estimated that the projected results will be somewhat varied given the broad range of people who will probably be served. For example, employed workers are more likely to be trained to achieve a higher skills level than most unemployed workers. Their success can be determined through placements in H-1B skills shortage occupations, increased wages, or skills attainment in H-1B occupations, or in training for or placement in positions on a career ladder toward such skills attainment.

There are, however, unemployed workers, including dislocated workers who have been laid off permanently from their jobs through no fault of their own, who may well already possess a very high skills level. They could receive additional technical skills training to enhance their skills. The outcomes for this group may be projected in terms of gaining new employment and skills attainment.

Outcomes for employed workers may be at a somewhat higher level than for those unemployed workers who do not possess similar skills at the outset. Because of the differing skill levels and backgrounds of participants in an H-1B training program, the outcomes section should discuss gains attained for individual participants in context of their backgrounds and skill levels when they entered. Therefore, the focus of the discussion in this section should emphasize very specifically the benefits that occur because of the training. For example, an applicant might state that a certain skills level is projected for a given group and indicate what change in skills that represents and how that might translate into an increase in earnings.

The application must identify what occupations will be trained in this grant. Please identify each occupation in terms of skills in high technology, information technology and biotechnology, including skills needed for software and communication services, telecommunications, systems installation and integration, computers and communications hardware, advanced manufacturing, health care technology, bio-technology and biomedical research and manufacturing and innovation services.

Consideration in the award of grants will be given to applicants which commit to achieving one or more of the following outcome goals upon successful completion of a training program:

(1) The hiring of unemployed trainees (if applicable);

(2) Increases in the wages or salaries of already employed trainees (if applicable); and

(3) Awards of skills certifications to trainees or links the trainees to industry-accepted occupational skill standards, certificates or licensing requirements.

7. Cost Effectiveness (10 points)

Applicants will provide a detailed cost proposal, including a discussion of the expected cost effectiveness of their proposal in terms of the expected cost per participant compared to the expected benefits for these participants. Applicants should address the employment outcomes, increased salary, promotion or retention and the levels of skills to be achieved (such as attaining State licensing in an occupation) relative to the amount of training that the individual needed to receive to achieve those outcomes. Benefits can be described both qualitatively in terms of skills attained and quantitatively in terms of wage gains.

Cost effectiveness may be demonstrated in part by cost per participant and cost per activity in relation to services provided and outcomes to be attained. This section MUST contain a detailed discussion of the size, nature, and quality of the non-Federal match. Proposals not presenting a detailed discussion of the non-Federal match or not meeting the statutory 50 percent match requirement will be considered non-responsive and will not be considered.

The application must specify a management entity, a staffing pattern, the resumes of major staff members and detailed descriptions of the roles of various entities participating in the partnership. Each application must designate an individual who will serve as project director and who will devote a substantial portion of his/her time to the project, which may be defined as at least 40 percent. A short portion of this discussion should describe the organizational capacity and track record in high skill training and related activities of the primary actors in the partnership.

Signed in Washington, D.C., this 4th day of April 2001.
Laura A. Cesario,
Grant Officer, Division of Federal Assistance.

Appendix A—Legislative Mandate

Appendix B—Selected H-1B Professional, Technical and Managerial Occupations, and Fashion Models: Number of Job Openings Certified by the U.S. Department of Labor, Fiscal Year 2000 (Oct. 1, 1999-February 29, 2000)

Appendix C—(SF) 424-Application Form

Appendix D—Budget Information Form

Appendix A—Legislative Mandate

(1) ACWIA and ACWIA 2000

The relevant portions of ACWIA 2000 dealing with the establishment of a fund for implementing a program of H-1B skills training grants are as follows:

“Section 286(s)—H-1B Nonimmigrant Petitioner Account (as Amended)

(1) In General—There is established in the general fund of the Treasury a separate account, which shall be known as the ‘H-1B Nonimmigrant Petitioner Account.’ Notwithstanding any other section of this title, there shall be deposited as offsetting receipts into the account all fees collected under 8 U.S.C. 1184 (c)(9)(section 214(c)(9)).

(2) Use of Fees for Job Training—55 percent of amounts deposited into the H-1B Nonimmigrant Petitioner Account shall remain available to the Secretary of Labor until expended for demonstration programs and projects described in section 414(c) of the American Competitiveness and Workforce Improvement Act of 1998.”

“Sec. 111. Demonstration Programs and Projects to Provide Technical Skills Training for Workers.

Section 414(c) of the American Competitiveness and Workforce Improvement Act of 1998 (as contained in title IV of division C of Public Law 105-277; 112 Stat. 2681-653) is amended to read as follows:

(c) Demonstration Programs and Projects to Provide Technical Skills Training for Workers.—

(1) In General.—

(A) Funding.—The Secretary of Labor shall use funds available under section 286(s)(2) of the Immigration and Nationality Act (8 U.S.C. 1356(s)(2)) to establish demonstration programs or projects to provide technical skills training for workers, including both employed and unemployed workers.

(B) Training Provided.—Training funded by a program or project described in subparagraph (A) shall be for persons who are currently employed and who wish to obtain and upgrade skills as well as for persons who are unemployed. Such training is not limited to skills levels commensurate with a four-year undergraduate degree, but should include the preparation of workers for a broad range of positions along a career ladder. Consideration shall be given to the use of grant funds to demonstrate a significant ability to expand a training program or project through such means as training more workers or offering more courses, and training programs or projects resulting from collaborations, especially with more than one small business or with a labor-management training program or project. The need for the training shall be justified through reliable regional, State, or local data.

(2) Grants.—

(A) Eligibility.—To carry out the programs and projects described in paragraph (1)(A), the Secretary of Labor shall, in consultation with the Secretary of Commerce, subject to the availability of funds in the H-1B Nonimmigrant Petitioner Account, award—

(i) 75 percent of the grants to a local workforce investment board established under section 116(b) or section 117 of the Workforce Investment Act of 1998 (29 U.S.C. 2832) or consortia of such boards in a region. Each workforce investment board or consortia of boards receiving grant funds shall represent a local or regional public-private partnership consisting of at least—

(I) One workforce investment board;

(II) One community-based organization or higher education institution or labor union; and

(III) One business or business-related non-profit organization such as a trade association: Provided, That the activities of such local or regional public-private partnership described in this subsection shall be conducted in coordination with the activities of the relevant local workforce investment board or boards established under the Workforce Investment Act of 1998 (29 U.S.C. 2832); and

(ii) 25 percent of the grants under the Secretary of Labor's authority to award grants for demonstration projects or programs under section 171 of the Workforce Investment Act (29 U.S.C. 2916) to partnerships that shall consist of at least 2 businesses or a business-related nonprofit organization that represents more than one business, and that may include any educational, labor, community organization, or workforce investment board, except that such grant funds may be used only to carry out a strategy that would otherwise not be eligible for funds provided under clause (i), due to barriers in meeting those partnership eligibility criteria, on a national, multi state, regional, or rural area (such as rural telework programs) basis.

(B) Designation of Responsible Fiscal Agents.—Each partnership formed under subparagraph (A) shall designate a responsible fiscal agent to receive and disburse grant funds under this subsection.

(C) Partnership Considerations.—Consideration in the awarding of grants shall be given to any partnership that involves and directly benefits more than one small business (each consisting of 100 employees or less).

(D) Allocation of Grants.—In making grants under this paragraph, the Secretary shall make every effort to fairly distribute grants across rural and urban areas, and across the different geographic regions of the United States. The total amount of grants awarded to carry out programs and projects described in paragraph (1)(A) shall be allocated as follows:

(i) At least 80 percent of the grants shall be awarded to programs and projects that train employed and unemployed workers in skills in high technology, information technology, and biotechnology, including skills needed for software and communications services, telecommunications, systems installation and integration, computers and communications hardware, advanced manufacturing, health care technology, biotechnology and biomedical research and manufacturing, and innovation services.

(ii) No more than 20 percent of the grants shall be available to programs and projects that train employed and unemployed workers for skills related to any single specialty occupation, as defined in section 214(i) of the Immigration and Nationality Act.

(3) Start-up funds.—

(A) In General.—Except as provided in subparagraph (B), not more than 5 percent of any single grant, or not to exceed $75,000, whichever is less, may be used toward the start-up costs of partnerships or new training programs and projects.

(B) Exception.— In the case of partnerships consisting primarily of small businesses, not more than 10 percent of any single grant, or $150,000, whichever is less, may be used toward the start-up costs of partnerships or new training programs and projects.

(C) Duration of Start-up Period.—For purposes of this subsection, a start-up period consists of a period of not more than 2 months after the grant period begins, at which time training shall immediately begin and no further Federal funds may be used for start-up purposes.

(4) Training Outcomes.—

(A) Consideration for Certain Programs and Projects.—Consideration in the awarding of grants shall be given to applicants that provide a specific, measurable commitment upon successful completion of a training course, to—

(i) Hire or effectuate the hiring of unemployed trainees (where applicable);

(ii) Increase the wages or salary of incumbent workers (where applicable); and

(iii) Provide skill certifications to trainees or link the training to industry-accepted occupational skill standards, certificates, or licensing requirements.

(B) Requirements for Grant Applications.— Applications for grants shall—

(i) Articulate the level of skills that workers will be trained for and the manner by which attainment of those skills will be measured;

(ii) Include an agreement that the program or project shall be subject to evaluation by the Secretary of Labor to measure its effectiveness; and

(iii) In the case of an application for a grant under subsection (c)(2)(A)(ii), explain what barriers prevent the strategy from being implemented through a grant made under subsection (c)(2)(A)(i).

(5) Matching Funds.—Each application for a grant to carry out a program or project described in paragraph (1)(A) shall state the manner by which the partnership will provide non-Federal matching resources (cash, or in-kind contributions, or both) equal to at least 50 percent of the total grant amount awarded under paragraph (2)(A)(i), and at least 100 percent of the total grant amount awarded under paragraph (2)(A)(ii). At least one-half of the non-Federal matching funds shall be from the business or businesses or business-related nonprofit organizations involved. Consideration in the award of grants shall be given to applicants that provide a specific commitment or commitments of resources from other public or private sources, or both, so as to demonstrate the long-term sustainability of the training program or project after the grant expires.

(6) Administrative Costs.—An entity that receives a grant to carry out a program or project described in paragraph (1)(A) may not use more than 10 percent of the amount of the grant to pay for administrative costs associated with the program or project.

(2) INA

The Immigration and Nationality Act (INA)(section 101(a)(15)(H)(i)(b))(8 U.S.C 1101 (a)(15)(H)(i)(B)) defines the H-1B alien as one “who is coming temporarily to the United States to perform services in a specialty occupation * * * or as a fashion model * * *.”

The INA (Section 214(i)) sets criteria to define the term “specialty occupation:”

(1) For purposes of section 1101(a)(15)(H)(i)(b) and paragraph 2, a “specialty occupation” means an occupation that requires—(A) theoretical and practical application of a body of highly specialized knowledge and,

(B) Attainment of a bachelor's or higher degree in the specific specialty (or its equivalent) as a minimum for entry into the occupation in the United States.

(2) For purposes of section 1101(a)(15)(H)(i)(b)), the requirements of this paragraph with respect to a specialty occupation are—(A) full state licensure to practice in the occupation, if such licensure is required to practice in the occupation,

(B) Completion of the degree described in paragraph (1)(B) for the occupation, or

(C)(i) Experience in the specialty equivalent to the completion of such degree, and (ii) recognition of expertise in the specialty through progressively responsible positions relating to the specialty.

Appendix B—Selected H-1B Professional, Technical and Managerial Occupations, and Fashion Models: Number of Job Openings Certified by the U.S. Department of Labor, Fiscal Year 2000 (Oct. 1, 1999-February 29, 2000)

Occupational title | No. of openings certified | Occupational code
Occupations In Systems | 360,745 | 076
Analysis And Programming Therapists | 181,665 | 160
Accountants, Auditors, And Related Occupations | 35,665 | 039
Other Computer-Related Occupations | 28,529 | 003
Electrical/Electronic Engineering Occupations | 16,859 | 070
Physicians And Surgeons | 11,264 | 019
Other Occupations In Architecture, Engineering And | 11,175 | 090
Occupations In College And University Education | 9,028 | 199
Miscellaneous Professional, Technical, And Manager | 8,964 | 189
Miscellaneous Managers And Officials | 8,824 | 007
Mechanical Engineering Occupations | 7,115 | 050
Occupations In Economics | 5,608 | 163
Sales And Distribution Management Occupations | 5,368 | 033
Occupations In Computer Systems Technical Support | 4,573 | 161
Budget And Management Systems Analysis Occupations | 4,263 | 169
Other Occupations In Administrative Occupations | 4,135 | 031
Occupations In Data Communications And Networks | 4,121 | 041
Occupations In Biological Sciences | 3,981 | 079
Other Occupations In Medicine And Health | 3,764 | 012
Industrial Engineering Occupations | 2,725 | 186
Finance, Insurance And Real Estate Managers And Off | 2,624 | 020
Occupations In Mathematics | 2,599 | 001
Architectural Occupations | 2,490 | 141
Commercial Artists: Designers & Illustrators, Graphics | 2,371 | 297
Fashion Models | 2,367 | 092
Occupations In Preschool, Primary, Kindergarten Ed. | 2,359 | 187
Service Industry Managers And Officials | 2,347 | 022
Occupations In Chemistry | 2,345 | 005
Engineering Occupations | 2,186 | 032
Occupations In Computer System User Support | 1,595 | 091
Occupations In Secondary School Education | 1,579 | 110
Lawyers | 1,353 | 029
Other Occupations In Mathematics And Physical Sciences | 1,306 | 131
Interpreters and Translators | 1,270 | 166
Personnel Administration Occupations | 1,229 | 165
Public Relations Management Occupations | 1,216 | 185
Wholesale And Retail Trade Managers And Officials | 1,183 | 008
Inspectors And Investigators, Managerial & Public | 974 | 142
Environmental, Product And Related Designers | 955 | 119
Other Occupations In Law And Jurisprudence | 882 | 099
Other Occupations In Education | 841 | 023
Occupations In Physics | 836 | 010
Mining And Petroleum Engineering Occupations | 777 | 164
Advertising Management Occupations | 773 | 132
Editors: Publication, Broadcast, And Script | 748 | 078
Occupations In Medical And Dental Technology | 699 | 183
Manufacturing Industry Managers And Officials | 681 | 184
Transportation, Communication, And Utilities Management | 659 | 049
Other Occupations In Life Sciences | 612 | 162
Purchasing Management Occupations | 604 | 040
Occupations In Agricultural Sciences | 574 | 074
Pharmacists | 508 | 159
Other Occupations In Entertainment And Recreation | 506

Technical Note: The Immigration and Nationality Act (Act) assigns responsibility to the Department of Labor with respect to the temporary entry of foreign professionals to work in specialty occupations in the U.S. under H-1B nonimmigrant status. Before the Immigration and Naturalization Service will approve a petition for an H-1B nonimmigrant worker, the employer must have filed and had certified by the Department a Labor Condition Application. The employer must indicate on the application the number of H-1B nonimmigrant workers sought, the rate of pay offered to the nonimmigrants, and the location where the nonimmigrants will work, among other things.

The Act limits the number of foreign workers who may be assigned H-1B status in each fiscal year, however, there is no limit on the number of job openings that may be certified by the Department. Historically, the actual number of job openings certified by the Department each year far exceeds the number of available visas. This excess in the number of certified openings is due to a number of factors: extension of status filings that are not subject to the annual cap; openings certified for anticipated employment that does not transpire; or movement from one employer to another (again, not subject to cap).

The occupational codes in the left-hand column represent the three-digit occupational groups codes for professional, technical and managerial occupations from the Dictionary of Occupational Titles (DOT).

BILLING CODE 4510-30-P

[FR Doc. 01-8651 Filed 4-12-01; 8:45 am]

BILLING CODE 4510-30-C